DEPARTMENT OF AGRICULTURE

Grain Inspection, Packers and Stockyards Administration

Grain Inspection Advisory Committee Reestablishment

AGENCY: Grain Inspection, Packers and Stockyards Administration, USDA.

ACTION: Notice to reestablish committee.

SUMMARY: Notice is hereby given that the Secretary of Agriculture has reestablished the Grain Inspection, Packers and Stockyards Administration's Grain Inspection Advisory Committee. The Secretary of Agriculture has determined that the Committee is necessary and in the public interest.

FOR FURTHER INFORMATION CONTACT: Terri L. Henry, Designated Federal Official, Grain Inspection, Packers and Stockyards Administration, USDA, Telephone (202) 205-8281; Fax (202) 690-2755; E-mail Terri.L.Henry@usda.gov.

SUPPLEMENTARY INFORMATION: The purpose of the Advisory Committee is to provide advice to the Administrator of the Grain Inspection, Packers and Stockyards Administration with respect to the implementation of the U.S. Grain Standards Act (7 U.S.C. 71 et seq.). Relevant information about the Advisory Committee is available on the GIPSA Web site. Go to http://www.gipsa.usda.gov and under the section “I Want To * * *”, click on “Learn about the Advisory Committee.”

James E. Link,
Administrator, Grain Inspection, Packers and Stockyards Administration.

[FR Doc. E7-1623 Filed 2-1-07; 8:45 am]

BILLING CODE 3410-KD-P